DEPARTMENT OF ENERGY

[FE Docket Nos. 03-60-NG, et al.]

Office of Fossil Energy; Reliant Energy Services, Inc., et al.; Orders Granting and Amending, Authority To Import and Export Natural Gas, Including Liquefied Natural Gas

AGENCY: Office of Fossil Energy, DOE.

ACTION: Notice of Orders.

SUMMARY: The Office of Fossil Energy (FE) of the Department of Energy gives notice that during October 2003, it issued Orders granting and amending authority to import and export natural gas, including liquefied natural gas. These Orders are summarized in the attached appendix and may be found on the FE Web site at http://www.fe.doe.gov (select gas regulation). They are also available for inspection and copying in the Office of Natural Gas & Petroleum.

Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on December 31, 2003.
Clifford P. Tomaszewski,
Manager, Natural Gas Regulation, Office of Natural Gas & Petroleum, Import & Export Activities, Office of Fossil Energy.

Appendix—Orders Granting and Amending Import/Export Authorizations
[DOE/FE Authority]
Order No. | Date issued | Importer/Exporter FE Docket No. | Import Volume | Export Volume | Comments
1917 | 11-7-03 | Reliant Energy Services, Inc.; 03-60-NG | 292 Bcf | 292 Bcf | Import a combined total of natural gas from Canada and Mexico, and export a combined total of natural gas to Canada and Mexico, beginning on October 6, 2003, and extending through October 5, 2005.
1879-A | 11-17-03 | Louis Dreyfus Energy Canada LP (Successor to Louis Dreyfus Energy Canada Inc.); 03-32-NG |  |  | Name change to blanket import authority. Change in corporate structure.
1918 | 11-17-03 | Sempra Energy Solutions; 03-69-NG | 100 Bcf |  | Import natural gas from Canada, beginning on November 17, 2003, and extending through November 16, 2005.
1919 | 11-17-03 | Vermont Gas Systems, Inc.; 03-71-NG | 20 Bcf | 20 Bcf | Import and export natural gas from and to Canada, beginning on December 23, 2003, and extending through December 22, 2005.
1920 | 11-17-03 | Phibro Inc.; 03-74-NG | 400 Bcf | 400 Bcf | Import a combined total of natural gas, including LNG from Canada and Mexico, and export a combined total of natural gas, including LNG to Canada and Mexico, beginning on January 1, 2004, and extending through December 31, 2005.
1921 | 11-17-03 | Rochester Gas and Electric Corporation; 03-75-NG | 40 Bcf |  | Import natural gas from Canada, beginning on December 1, 2003, and extending through November 30, 2005.
1575-B | 11-17-03 | Shell NA LNG LLC (Formerly Shell NA LNG, Inc.); 00-16-LNG |  |  | Name change to blanket import authority.
1922 | 11-20-03 | Stand Energy Corporation 03-78-NG | 2 Bcf |  | Import and export a combined total of natural gas from and to Mexico, beginning on November 20, 2003, and extending through November 19, 2005.
1923 | 11-20-03 | Advance Energy, Inc.; 03-79-NG | 600 Bcf |  | Import and export natural gas from and to Canada and Mexico, beginning on November 20, 2003, and extending through November 19, 2005.

[FR Doc. 04-781 Filed 1-13-04; 8:45 am]

BILLING CODE 6450-01-P